DEPARTMENT OF TRANSPORTATION

Coast Guard

33 CFR Part 117

[CGD11-00-002]

Drawbridge Operation Regulations; Sacramento River, CA

AGENCY: Coast Guard, DOT.

ACTION: Notice of temporary deviation from regulations.

SUMMARY: The Commander, Eleventh Coast Guard District has approved a temporary deviation to the regulations governing the opening of the Walnut Grove Highway bascule bridge, Mile 26.7, over the Sacramento River at Walnut Grove, CA. The approval specifies that the bridge need not open for vessel traffic from 8 a.m. to 12 p.m., April 24 through April 28, 2000 and 8 a.m. to 12 p.m., May 1 through May 5, 2000. The purpose of this deviation is to allow Sacramento County to perform essential seismic retrofit repairs.

DATES: Effective period of the deviation is from 8 a.m., April 24 through 12 p.m., May 5, 2000.

FOR FURTHER INFORMATION CONTACT: Mr. David H. Sulouff, Chief, Bridge Section, Eleventh Coast Guard District, Building 50-6 Coast Guard Island, Alameda, CA 94501-5100, phone (510) 437-3516.

SUPPLEMENTARY INFORMATION: The Walnut Grove Highway bascule bridge, Mile 26.7, over the Sacramento River at Walnut Grove, CA provides 21 feet vertical clearance above Mean High Water when closed. Vessels that can pass under the bridge without an opening may do so at all times. This deviation has been coordinated with navigation on the waterway. No objections were received.

The normal drawbridge regulation requires the bridge to open on demand, 9 a.m. to 5 p.m., November 1 through April 30; and 6 a.m. to 10 p.m., May 1 through October 31; and all other times if at least 4 hours advance notice is given.

In accordance with 33 CFR 117.35(c), this work will be performed with all due speed in order to return the bridge to normal operation as soon as possible. This deviation from the normal operating regulations in 33 CFR 117.5 is authorized in accordance with the provisions of 33 CFR 117.35.

Dated: April 19, 2000.
T.H. Collins,
Vice Admiral, U.S. Coast Guard, Commander, Eleventh Coast Guard District.

[FR Doc. 00-10548 Filed 4-27-00; 8:45 am]

BILLING CODE 4910-15-M